FEDERAL COMMUNICATIONS COMMISSION
Public Information Collection(s) Requirement Submitted to OMB for Emergency Review and Approval
January 22, 2004.

SUMMARY:
The Federal Communications Commission, as part of its continuing effort to reduce paperwork burden invites the general public and other Federal agencies to take this opportunity to comment on the following information collection(s), as required by the Paperwork Reduction Act of 1995, Public Law No. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on respondents, including the use of automated collection techniques or other forms of information technology.

DATES:
Written Paperwork Reduction Act (PRA) comments should be submitted on or before March 1, 2004. If you anticipate that you will be submitting comments, but find it difficult to do so within the period of time allowed by this notice, you should advise the contacts listed below as soon as possible.

ADDRESSES:

Direct all PRA comments to Kristy L. LaLonde, Office of Management and Budget, Room 10234 NEOB, Washington, DC 20503, (202) 395-3087, or via fax at 202-395-5167 or via Internet at Krista_L._LaLonde@omb.eop.gov., and Judith B. Herman, Federal Communications Commission, Room 1-C804, 445 12th Street, SW., Washington, DC 20554 or via internet to Judith-B.Herman@fcc.gov.

FOR FURTHER INFORMATION CONTACT:

For additional information or copies of the information collections contact Judith B. Herman at 202-418-0214 or via Internet at Judith-B.Herman@fcc.gov.

SUPPLEMENTARY INFORMATION:

The Commission has requested emergency OMB processing review of this new information collection with an OMB approval by February 1, 2004.

OMB Control Number: 3060-XXXX.

Title: Promoting Efficient Use of Spectrum through the Elimination of Barriers to the Development of Secondary Markets, WT Docket No. 00-230.

Form No.: FCC Form 603-T.

Type of Review: New collection.

Respondents: Business or other for-profit, not-for-profit institutions, and state, local and tribal government.

Number of Respondents: 1,770.

Estimated Time Per Response: 1-4 hours.

Frequency of Response: On occasion reporting requirement and recordkeeping requirement.

Total Annual Burden: 7,813 hours.

Total Annual Cost: $1,222,040.

Needs and Uses: The required notifications and applications will provide the Commission with useful information about spectrum usage and helps to ensure that the licensees and lessees are complying with Commission interference and non-interference policies and rules. Similar information and verification requirements have been used in the past for licensees operating under authorizations, and such requirements will serve to minimize interference, verify lessees are legally and technically qualified to hold licenses, and ensure compliance with Commission rules. The Commission has created an interim form, FCC Form 603-T, to be used until revisions to the FCC Form 603, and the Universal Licensing System (ULS) be programmed to recognized the changes to the FCC 603.

Federal Communications Commission.
Marlene H. Dortch,
Secretary.

[FR Doc. 04-2020 Filed 1-29-04; 8:45 am]
BILLING CODE 6712-01-M